DEPARTMENT OF HEALTH AND HUMAN SERVICES

Administration for Children and Families

Proposed Information Collection Activity; Comment Request

Proposed Projects

Title: Head Start Performance Standards.

OMB No.: 0970-0148.

Description: Please note that this submission does not reflect proposed changes in the Notice of Proposed Rule Making to update Head Start program performance standards published on June 15, 2015. ACF is only requesting for an extension without change of a currently approved collection.

Head Start Performance Standards are the result of a legislative mandate to administer a high quality comprehensive child development program that serves low-income pregnant women, infants and toddlers, preschoolers and their families. The information collection aspects of the Performance Standards are a part of the many actions that local agencies must take to ensure they administer quality programs for Head Start children and families. The information collection items included in the Performance Standards are almost entirely record-keeping requirements for local Head Start programs; these records are intended to act as a tool for grantees and delegate agencies to be used in their day-to-day operations. Such records are maintained by the grantees and delegate agencies and are not part of a standard information collection submitted to the Federal government. Local programs are monitored for overall compliance with the Performance Standards, including the record-keeping aspects.

Respondents: Head Start and Early Head Start program grant recipients.

Annual Burden Estimates
Instruments | Number of respondents | Number of responses per respondent | Average burden hours per response | Total burden hours
Records | 2,865 | 16 | 41.9 | 1,920,696

Estimated Total Annual Burden Hours: 1,920,696.

Cost per respondent is $10,290.64 estimated at 16 responses × 41.9 hours × $15.35 per hour. Monetary costs associated with information collection requirements for Head Start are the salaries of the staff performing the duties. These costs are assumed by the Federal Government through the provision of program operating costs.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2016-13172 Filed 6-3-16; 8:45 am]

BILLING CODE 4184-01-P